DEPARTMENT OF COMMERCE

National Oceanic and Atmospheric Administration

[I.D. 032602C]

Endangered Species; Permits

AGENCY: National Marine Fisheries Service (NMFS), National Oceanic and Atmospheric Administration (NOAA), Commerce.

ACTION: NMFS has issued permit 1355.

SUMMARY: Notice is hereby given of the following actions regarding permits for takes of endangered and threatened species for the purposes of scientific research and/or enhancement under the Endangered Species Act (ESA): NMFS has issued permit 1355 to Mr. Eugene Greer, of Columbia Environmental Research Center.

DATES: Permit 1355 was issued to Mr. Eugene Greer on March 21, 2002.

ADDRESSES: Documents may also be reviewed by appointment in the Office of Protected Resources, F/PR1, NMFS, 1315 East-West Highway, Silver Spring, MD 20910-3226 (phone:301-713-2319).

FOR FURTHER INFORMATION CONTACT: Lillian Becker, Silver Spring, MD (phone: 301-713-2319, fax: 301-713-0376, e-mail: Lillian.Becker@noaa.gov).

SUPPLEMENTARY INFORMATION:

Authority

Issuance of permits and permit modifications, as required by the Endangered Species Act of 1973 (16 U.S.C. 1531-1543) (ESA), is based on a finding that such permits/modifications: (1) are applied for in good faith; (2) would not operate to the disadvantage of the listed species which are the subject of the permits; and (3) are consistent with the purposes and policies set forth in section 2 of the ESA. Scientific research and/or enhancement permits are issued under section 10(a)(1)(A) of the ESA. Authority to take listed species is subject to conditions set forth in the permits. Permits and modifications are issued in accordance with and are subject to the ESA and NMFS regulations governing listed fish and wildlife permits (50 CFR parts 222-226).

Species Covered in This Notice

The following species are covered in this notice:

Endangered Shortnose Sturgeon (Acipenser brevirostrum)

Permit 1355

Notice was published on January 3, 2002 that Mr. Eugene Greer, of Columbia Environmental Research Center applied for a scientific research permit (1355). The applicant proposes to test the effects of toxins found in the waters of North Carolina on the growth and survival of shortnose sturgeon fry. Up to 3,000 fry will be placed into water shipped in from the rivers of North Carolina and measured. Permit 1355 was issued on March 21, 2002, authorizing take of shortnose sturgeon. Permit 1355 expires June 1, 2004.

Dated: March 28, 2002.
Ann Terbush,
Chief, Permits, Conservation, and Education Division, Office of Protected Resources, National Marine Fisheries Service.

[FR Doc. 02-8082 Filed 4-2-02; 8:45 am]

BILLING CODE 3510-22-S